DEPARTMENT OF DEFENSE

Office of the Secretary

[Docket ID: DOD-2026-OS-0100]

Proposed Collection; Comment Request

AGENCY: The Office of the Under Secretary of Defense for Research and Engineering (OUSD(R&E)), Department of Defense (DoD).

ACTION: Information collection notice.

SUMMARY: In compliance with the Paperwork Reduction Act of 1995, the OUSD(R&E) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 24, 2026.

ADDRESSES: You may submit comments, identified by docket number and title, by any of the following methods:

Federal eRulemaking Portal: http://www.regulations.gov. Follow the instructions for submitting comments.

Mail: Department of Defense, Office of the Director of Administration and Management, Privacy, Civil Liberties, and Transparency Directorate, Regulatory Division, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to SMART Program Office, 4800 Mark Center Drive, Suite 17C08, Alexandria, VA, 22350-3600, Dr. Marcus Smith, 937-409-4330.

SUPPLEMENTARY INFORMATION:

Title; Associated Form; and OMB Number: Science, Mathematics and Research for Transformation Scholarship Program; DD Forms 3067-2, 3067-4, 3067-7, 3067-8, 3067-9, 3067-11, 3067-12, 3067-13, 3067-15; OMB Control Number 0704-0466.

Needs and Uses: Science, Mathematics and Research for Transformation Scholarship Program (SMART) is designed to increase the number of new civilian science, technology, engineering, and mathematics (STEM) entrants to the DoD. Additionally, the SMART Program develops and retains current DoD civilian STEM employees that are critical to the national security functions of the DoD and are needed in the DoD's workforce. SMART awards scholarships, ranging from 1 to 5 years, to undergraduate and graduate level students pursuing a degree in one of 22 technical disciplines. Upon graduation, scholars fulfill a service commitment with the DoD facility that nominated the scholar for an award. The information collection activity under review is a statutory and functional requirement necessary to administer the scholarship program.

Affected Public: Individuals or households.

SMART Application

Annual Burden Hours: 20,000.

Number of Respondents: 2,500.

Responses per Respondent: 1.

Annual Responses: 2,500.

Average Burden per Response: 8 hours.

SMART Participant Forms

Annual Burden Hours: 5,017.

Number of Respondents: 1,500.

Responses per Respondent: 3.6.

Annual Responses: 5,400.

Average Burden per Response: 55.74 minutes.

Total

Annual Burden Hours: 25,017.

Number of Respondents: 4,000.

Annual Responses: 7,900.

Frequency: On occasion.

Dated: January 20, 2026.
Aaron T. Siegel,
Alternate OSD Federal Register Liaison Officer, Department of Defense.

[FR Doc. 2026-01219 Filed 1-22-26; 8:45 am]

BILLING CODE 6001-FR-P